DEPARTMENT OF ENERGY

Federal Energy Regulatory Commission

[Project No. 696-012]

PacifiCorp; Notice of Petition for Declaratory Order

June 14, 2001.

On March 15, 2001, PacifiCorp filed a petition for declaratory order regarding the American Fork Hydroelectric Project No. 6967. PacifiCorp requests that the Commission issue a declaratory order finding that PacifiCorp, as licensee of the American Fork Hydroelectric Project, enjoys a “perpetual license” for the project, and that consequently it is unnecessary for PacifiCorp to seek a new license for the project.¹ PacifiCorp asserts that issuance of a declaratory order is necessary in order to resolve uncertainty regarding whether a new license is required for continued operation of the project.

¹ The original license for the project was issued to PacifiCorp's predecessor, Utah Power & Light Company, on November 24, 1975. PacificCorp timely filed an application for a new license in October 1998, two years before October 31, 2000, the expiration date for its original license. By notice issued November 14, 2000, the Commission issued PacificCorp an annual license for the project, and project operations are continuing pursuant to annual license, pending disposition of the relicense application.

Any person desiring to be heard or to protest the petition should file comments, a protest, or motion to intervene in accordance with the requirements of the Commission's Rules of Practice and Procedure, 18 CFR 385.210, 385.211 and 385.214. In determining the appropriate action to be taken, the Commission will consider all protests and other comments, but only those who file a motion to intervene may become parties to the proceeding. Comments, protests, or motions to intervene must be filed by within 30 days following publication of this notice in the Federal Register and must bear in all capital letters the title “COMMENTS,” “PROTEST,” or “MOTION TO INTERVENE,” as applicable, and Project No. 696-012.

Comments, protests and interventions may be filed electronically via the internet in lieu of paper. See, 18 CFR 385.2001(a)(1)(iii) and the instructions on the Commission's web site at http://www.ferc.fed.us/efi/doorbell.htm.

Send the filings (original and 8 copies) to: The Secretary, Federal Energy Regulatory Commission, 888 First Street, NE., Washington, DC 20426. Copies of the petition for declaratory order are on file with the Commission and are available for public inspection in Room 2A and may also be viewed on the web at http://www.ferc.fed.us/online/rims.htm (please call (202) 208-2222 for assistance).

Linwood A. Watson, Jr.,
Acting Secretary.

[FR Doc. 01-15521 Filed 6-19-01; 8:45 am]

BILLING CODE 6777-01-M